COMMISSION ON CIVIL RIGHTS

Agenda and Notice of Public Meeting of the Utah Advisory Committee

Notice is hereby given, pursuant to the provisions of the rules and regulations of the U.S. Commission on Civil Rights and the regulations of the Federal Advisory Committee Act (FACA), that a meeting of the Utah Advisory Committee will convene at 5:30 p.m. and adjourn at 8 p.m. (MST) on Thursday, February 25, 2010 at the 451 South State Street, Salt Lake City, UT 84111. The purpose of the meeting is for the committee to discuss recent Commission and regional activities, discuss current civil rights issues in the state and plan future activities. The Committee will also be briefed on education issues affecting minority students as it prepares to select a project topic.

Members of the public are entitled to submit written comments; the comments must be received in the regional office by March 25, 2010. The address is Rocky Mountain Regional Office, 1961 Stout Street, Suite 240, Denver, CO 80294. Persons wishing to e-mail their comments, or who desire additional information should contact Malee Craft, Regional Director, at 303-866-1040 or by e-mail to: mcraft@usccr.gov.

Hearing-impaired persons who will attend the meeting and require the services of a sign language interpreter should contact the Regional Office at least ten (10) working days before the scheduled date of the meeting.

The meeting will be conducted pursuant to the provisions of the rules and regulations of the Commission and FACA.

Dated in Washington, DC, February 2, 2010.
Peter Minarik,
Acting Chief, Regional Programs Coordination Unit.

[FR Doc. 2010-2525 Filed 2-4-10; 8:45 am]

BILLING CODE 6335-01-P